DEPARTMENT OF LABOR

Office of the Secretary

Submission for OMB Review; Comment Request

March 25, 2003.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation, contact Darrin King on (202) 693-4129 or e-mail: King.Darrin@dol.gov.

Comments should be sent to Office of Information and Regulatory Affairs, Attn: OMB Desk Officer for MSHA, Office of Management and Budget, Room 10235, Washington, DC 20503 ((202) 395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Agency: Mine Safety and Health Administration (MSHA).

Type of Review: Extension of a currently approved collection.

Title: Roof Control Plans.

OMB Number: 1219-0004.

Frequency: On occasion.

Type of Response: Recordkeeping and Reporting.

Affected Public: Business or other for-profit.

Number of Respondents: 893.

Requirement | Annual responses | Average response time (hours) | Annual burden hours
New roof control plans | 47 | 24 | 1,128
Revised roof control plans | 957 | 5 | 4,785
Plotting unplanned roof or rib fall, and coal or rock burst on a mine map | 1,753 | .08 | 140
Total: | 2,757 |  | 6,053

Total Annualized Capital/startup Costs: $0.

Total Annual (operating/maintaining systems or purchasing services): $5,020.

Description: MSHA standards located at 30 CFR 75.215, 75.220, 75.221, 75.222, and 75.223, require that a roof control plan and revisions thereof suitable to the roof conditions and mining system of each coal mine be approved by MSHA before implementation by the mine operator. Mine operators are also required to plot on a mine map each unplanned roof or rib fall and coal or rock burst that occurs in the active workings when certain criteria are met. These information collection requirements are necessary to protect the health and safety of underground coal miners.

Ira L. Mills,
Departmental Clearance Officer.

[FR Doc. 03-8081 Filed 4-2-03; 8:45 am]

BILLING CODE 4510-23-M